DEPARTMENT OF THE INTERIOR

National Park Service

[NPS-WASO-NAGPRA-NPS0036101; PPWOCRADN0-PCU00RP14.R50000]

Notice of Inventory Completion Amendment: California Department of Parks and Recreation, Sacramento, CA

AGENCY: National Park Service, Interior.

ACTION: Notice; amendment.

SUMMARY: In accordance with the Native American Graves Protection and Repatriation Act (NAGPRA), the California Department of Parks and Recreation has amended a Notice of Inventory Completion in the Federal Register on September 28, 2012. This notice amends the number of associated funerary objects in a collection removed from Shannon County, SD.

DATES: Disposition of the human remains and associated funerary objects in this notice may occur on or after August 2, 2023.

ADDRESSES: Dr. Leslie L. Hartzell, NAGPRA Coordinator, California Department of Parks and Recreation, P.O. Box 942896, Sacramento, CA 94296-0001, telephone (916) 425-8016, email Leslie.Hartzell@parks.ca.gov.

SUPPLEMENTARY INFORMATION: This notice is published as part of the National Park Service's administrative responsibilities under NAGPRA. The determinations in this notice are the sole responsibility of the California Department of Parks and Recreation. The National Park Service is not responsible for the determinations in this notice. Additional information on the amendments and determinations in this notice, including the results of consultation, can be found in the inventory or related records held by the California Department of Parks and Recreation.

Amendment

This notice amends the determinations published in a Notice of Inventory Completion in the Federal Register (77 FR 59647-59648, September 28, 2012). Disposition of the items in the original Notice of Inventory Completion has not occurred. During consultation regarding the original notice, Department of Parks and Recreation staff located and subsequently identified additional associated funerary objects from the Wounded Knee Massacre Site.

Site | Original No. | Amended No. | Amended description
Wounded Knee Massacre Site in Shannon County, SD | 2 | 12 | four photographs, two armlets, two bandanas, one arm band, one lot of beads, one periodical, and one spur.

Determinations (As Amended)

Pursuant to NAGPRA and its implementing regulations, and after consultation with the appropriate Indian Tribes, the California Department of Parks and Recreation has determined that:

• The human remains represent the physical remains of two individuals of Native American ancestry.

• The 12 objects are reasonably believed to have been placed with or near individual human remains at the time of death or later as part of the death rite or ceremony.

• There is a relationship of shared group identity that can be reasonably traced between the human remains and associated funerary objects and the Cheyenne River Sioux Tribe of the Cheyenne River Reservation, South Dakota; Oglala Sioux Tribe; and the Standing Rock Sioux Tribe of North & South Dakota.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects in this notice to a requestor may occur on or after August 2, 2023. If competing requests for disposition are received, the California Department of Parks and Recreation must determine the most appropriate requestor prior to disposition. Requests for joint disposition of the human remains and associated funerary objects are considered a single request and not competing requests. The California Department of Parks and Recreation is responsible for sending a copy of this notice to the Indian Tribes identified in this notice.

Authority: Native American Graves Protection and Repatriation Act, 25 U.S.C. 3003, and the implementing regulations, 43 CFR 10.9, 10.11, and 10.13.

Dated: June 21, 2023.
Melanie O'Brien,
Manager, National NAGPRA Program.

[FR Doc. 2023-14082 Filed 6-30-23; 8:45 am]

BILLING CODE 4312-52-P